DEPARTMENT OF TRANSPORTATION

Federal Aviation Administration

[Docket No. XXXX-XXXX]

Agency Information Collection Activities: Requests for Comments; Clearance of Renewed Approval of Information Collection: FAA Aircraft Noise Complaint and Inquiry System (Noise Portal)

AGENCY: Federal Aviation Administration (FAA), DOT.

ACTION: Notice and request for comments.

SUMMARY: In accordance with the Paperwork Reduction Act of 1995, FAA invites public comments about our intention to request the Office of Management and Budget (OMB) approval to renew an information collection. This collection involves information voluntarily submitted through the FAA Noise Portal, which is used to respond to noise complaints and inquiries. The required fields in the Noise Portal represent the minimum information necessary for the FAA to respond effectively. In addition, it allows the FAA to prevent fragmented or delayed responses across FAA regions, enhances transparency and public trust, improves community engagement, and supports a centralized intake of noise complaints and inquiries. This voluntary data collection is essential for the FAA to fulfill its public engagement responsibilities, streamline operations, and uphold its commitment to responsive, citizen-centered governance.

DATES: Written comments should be submitted by March 23, 2026.

ADDRESSES: Please send written comments:

By Electronic Docket: www.regulations.gov (Enter docket number into search field).

By Mail: Nitin Rao Manager, National Engagement Strategy and Policy Division, ARA-200, 2300 Devon Avenue, Suite 432, Des Plaines, IL 60018.

FOR FURTHER INFORMATION CONTACT: Nitin Rao by email at: 9-APL-ANCIR-Comments@faa.gov; phone: 202-267-0965.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0773.

Title: FAA Aircraft Noise Complaint and Inquiry System (Noise Portal).

Form Numbers: None.

Type of Review: Renewal of an information collection.

Background: The FAA collects information through its Noise Portal to respond to public complaints and inquiries about aircraft noise. Individuals voluntarily submit their name, email address, location of the noise event, and a description of the issue. This data helps the FAA identify noise sources, respond directly to the complainant, and understand community concerns. The respondents are members of the public who experience aircraft noise, typically near their homes. The FAA gathers this information online through the Aviation Noise Complaint and Inquiry response (ANCIR) system, which centralizes and streamlines complaint intake and response.

This collection is essential for the FAA to provide timely, accurate, and location-specific responses. It also supports broader goals like detecting noise trends, improving community engagement, and understanding environmental impacts. The FAA uses deidentified, aggregated data to develop public FAQ's, share insights with stakeholders, and support safety analysis across agencies. While no law specifically requires this data collection, several mandates guide the FAA's public engagement efforts; 49 U.S.C. 106(q) requires an Aircraft Noise Ombudsman; the 1976 Aviation Noise Abatement Policy affirms federal responsibility for noise management; and the FAA Reauthorization Acts of 2018 (Pub. L. 115-254) and 2024 (Pub. L. 118-63) direct the agency to enhance transparency and community collaboration.

Respondents: 45,000.

Frequency: As needed.

Estimated Average Burden per Response: 15 minutes.

Estimated Total Annual Burden: 11,250 hours.

Issued in Des Plaines, IL.
Nitin Rao,
Manager, National Engagement Strategy and Policy Division, ARA-200.

[FR Doc. 2026-00943 Filed 1-16-26; 8:45 am]

BILLING CODE 4910-13-P